DEPARTMENT OF COMMERCE

National Oceanic and Atmospheric Administration

[I.D. 041000D]

Western Pacific Fishery Management Council; Public Meeting

AGENCY: National Marine Fisheries Service (NMFS), National Oceanic and Atmospheric Administration (NOAA), Commerce.

ACTION: Notice of public meeting.

SUMMARY: The Western Pacific Fishery Management Council (Council) will hold its 103rd meeting in Honolulu, Hawaii. A public meeting will be held to discuss banning bottom longlining for pelagic management unit species in Federal waters around Hawaii as a preferred alternative under an amendment to the Fishery Management Plan for the Pelagics Fisheries of the Western Pacific Region (Pelagics FMP). In addition, the Council will consider the State of Hawaii's bill (H.B. 1947) to ban shark finning, in light of the Council's Fishery Management Plan for Pelagic Fisheries of the Western Pacific Region. The Council will also consider banning spear fishing with SCUBA apparatus during the day and night as a preferred alternative under the Draft Environmental Impact Statement/Fishery Management Plan for the Coral Reef Ecosystem FMP (DEIS/FMP).

DATES: The Council meeting will be held on May 1, 2000, at 11 p.m.

ADDRESSES: The meeting will be held at the Western Pacific Fishery Management Council office, at 1164 Bishop St., Suite 1400, Honolulu, HI 96813.

FOR FURTHER INFORMATION CONTACT: Kitty M. Simonds, Executive Director; telephone: 808-522-8220.

SUPPLEMENTARY INFORMATION: The agenda during the full Council meeting will include the items below. The order in which agenda items will be addressed may change.

1. Introductions

2. Approval of Agenda

3. Approval of the 102nd Meeting Minutes

4. Banning bottom longline fishing for pelagic management unit species in Federal waters around Hawaii as a preferred alternative under the Pelagics FMP

5. State of Hawaii bill on shark-finning

6. Banning spear fishing with SCUBA apparatus during day and night in the Western Pacific Region, as a preferred alternative under the Coral Reef Ecosystem DEIS/FMP

7. Issues relating to fisheries under Council jurisdiction in the Northwestern Hawaiian Islands

8. Approval of Elliot Lutali's membership of Pelagic Plan Team

9. Public comment

10. Council action

11. Other business

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to the meeting date.

16 U.S.C. 1801 et seq.
Dated: April 11, 2000.
George H. Darcy,
Acting Director, Office of Sustainable Fisheries, National Marine Fisheries Service.

[FR Doc. 00-9350 Filed 4-13-00; 8:45 am]

BILLING CODE 3510-22-F